DEPARTMENT OF AGRICULTURE

Agricultural Marketing Service

[No.: TM-04-11]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: Tuesday, October 12, 2004, 8 a.m. to 5 p.m., Wednesday, October 13, 2004, 8 a.m. to 5 p.m., and Thursday, October 14, 2004, 8 a.m. to 12:15 p.m. Requests from individuals and organizations wishing to make an oral presentation at the meeting are due by the close of business on September 27, 2004.

ADDRESSES: The meeting will take place at the Washington Marriott, Salon E, 1221 22nd Street, NW., Washington, DC. Requests for copies of the NOSB meeting agenda, requests to make an oral presentation at the meeting, or written comments may be sent to Ms. Katherine Benham, Advisory Board Specialist at USDA-AMS-TMD-NOP, 1400 Independence Avenue, SW., Room 4008-So., Ag Stop 0268, Washington, DC 20250-0200. Requests to make an oral presentation at the meeting may also be sent via facsimile to Ms. Katherine Benham at (202) 205-7808 or electronically to Ms. Katherine Benham at katherine.benham@usda.gov.

FOR FURTHER INFORMATION CONTACT: Richard Mathews, Associate Deputy Administrator, National Organic Program, (202) 720-3252.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production and to advise the Secretary on other aspects of the implementation of the OFPA.

The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 53 addenda to its recommendations and reviewed more than 264 substances for inclusion on the National List of Allowed and Prohibited Substances. The last meeting of the NOSB was held on April 28-30, 2004, in Chicago, Illinois.

The Department of Agriculture (USDA) published its final National Organic Program regulation in the Federal Register on December 21, 2000 (65 FR 80548). The rule became effective April 21, 2001.

The principal purposes of the meeting are to hear discussions between NOP and NOSB regarding the status of previous NOSB materials recommendations; NOSB recommendations concerning compatibility, commercial availability, and minor non-compliances; a NOP/NOSB framework for collaboration; an action plan for a NOSB Executive Director; and the process for reviewing materials. The NOSB will receive an update on the statement of work for TAP contractors, discuss issues concerning a letter of understanding with the Organic Materials Review Institute, and participate in working sessions that consider committee drafts designed to provide feedback to the NOP on directives regarding inerts, fishmeal as a feed supplement, antibiotics, and NOP scope. The Board will receive public input on materials issues, standards for pet food and aquatic animals, and hear a presentation on integrated organic program research grants from the USDA Cooperative State Research Education and Extension Service (CSREES).

The Materials Committee will present, for NOSB consideration, an action plan to establish standard operating procedures for facilitating the sunset review of materials and discuss issues involving OFPA provisions for materials and interpretations of those provisions and the National List. The Materials Committee will also discuss revising the Federal Register notice for petitioning substances and consider issues in refining the process for materials review. The Handling Committee will provide an update on materials approved as food contact substances and present, for NOSB consideration, action plans to address issues concerning organic yeast and pet food standards. The Livestock Committee will present, for discussion, the formation of a task force on wild caught and aquaculture standards. The Policy Development Committee will present a draft committee recommendation for scheduling NOSB meetings and provide an update on board policy manual revisions. Finally, the Crops Committee will discuss issues concerning the use of extraction methods, including the use of potassium carbonate and hydrolyzed extracts, and submit, for consideration, its recommendation on the Compost Tea Task Force report.

Materials to be reviewed at the meeting by the NOSB are as follows: for Crop Production: Soy Protein Isolate.

For further information, see http://www.ams.usda.gov/nop. Copies of the NOSB meeting agenda can be requested from Ms. Katherine Benham by telephone at (202) 205-7806; or by accessing the NOP Web site at http://www.ams.usda.gov/nop.

The meeting is open to the public. The NOSB has scheduled time for public input on Tuesday, October 12, 2004, 3 p.m. to 5 p.m.; and Thursday, October 14, 2004, 9 a.m. to 12 p.m. Individuals and organizations wishing to make an oral presentation at the meeting may forward their request by mail, facsimile, or e-mail to Ms. Katherine Benham at addresses listed in ADDRESSES above. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: September 20, 2004.
A.J. Yates,
Administrator, Agricultural Marketing Service.

[FR Doc. 04-21552 Filed 9-24-04; 8:45 am]

BILLING CODE 3410-02-P